FEDERAL LABOR RELATIONS AUTHORITY

5 CFR Part 2424

Negotiability Proceedings; Correction

AGENCY: Federal Labor Relations Authority.

ACTION: Correcting amendment.

SUMMARY: The Federal Labor Relations Authority is correcting its regulations regarding negotiability proceedings.

DATES: Effective October 18, 2023.

FOR FURTHER INFORMATION CONTACT: Thomas Tso at ttso@flra.gov or at (771) 444-5779.

SUPPLEMENTARY INFORMATION: In FR Doc. 2023-19269, appearing in the Federal Register of Tuesday, September 12, 2023, on page 62445, instruction 10 revised paragraphs (a) through (c) of § 2424.25, but regulatory text was set out for paragraphs (a) through (d). The revision of paragraph (d) wasn't incorporated into the CFR because it wasn't included in the instruction. This correcting amendment revises paragraph (d) of § 2424.25.

List of Subjects in 5 CFR Part 2424

Administrative practice and procedure, Government employees, Labor management relations.

For the reasons set out in the preamble, the Federal Labor Relations Authority corrects 5 CFR part 2424 by making the following correcting amendment:

PART 2424—NEGOTIABILITY PROCEEDINGS

1. The authority citation for part 2424 continues to read as follows:

Authority: 5 U.S.C. 7134.

2. Amend § 2424.25 by revising paragraph (d) to read as follows:

§ 2424.25 Response of the exclusive representative; purpose; time limits; content; severance; service.

* * * * *

(d) Severance. The exclusive representative may, of its own accord, accomplish the severance of a previously submitted proposal or provision. To accomplish severance, the exclusive representative must identify the proposal or provision that the exclusive representative is severing and set forth the exact wording of the newly severed portion(s). Further, as part of the exclusive representative's explanation and argument about why the newly severed portion(s) are within the duty to bargain or not contrary to law, the exclusive representative must explain how the severed portion(s) stand alone with independent meaning, and how the severed portion(s) would operate. The explanation and argument in support of the severed portion(s) must meet the same requirements for specific information set forth in paragraph (c) of this section, and must satisfy the exclusive representative's burdens under § 2424.32.

* * * * *

Dated: October 13, 2023.
Rebecca J. Osborne,
Director of Legislative Affairs and Program Planning.

[FR Doc. 2023-22975 Filed 10-17-23; 8:45 am]

BILLING CODE 7627-01-P